DEPARTMENT OF ENERGY

Federal Energy Regulatory Commission

[Project No. 13615-000]

Sweetwater Hydro, LLC and Ute Mountain Ute Tribe; Notice of Preliminary Permit Application Accepted for Filing and Soliciting Comments, Motions To Intervene, and Competing Applications

March 8, 2010.

On November 4, 2009, Sweetwater Hydro, LLC and Ute Mountain Ute Tribe filed an application for a preliminary permit, pursuant to section 4(f) of the Federal Power Act, proposing to study the feasibility of the Sweetwater Pumped Storage Hydroelectric Project, in San Juan County, New Mexico. The sole purpose of a preliminary permit, if issued, is to grant the permit holder priority to file a license application during the permit term. A preliminary permit does not authorize the permit holder to perform any land-disturbing activities or otherwise enter upon lands or waters owned by others without the owners' express permission.

The proposed project would consist of the following new facilities: (1) An upper earth embankment dam with a height of 100 feet and 9,168 feet in length; (2) an associated upper reservoir with a surface area of 141 acres, and a storage capacity of 11,018 acre feet, with a normal maximum surface elevation of 6,780 feet mean sea level (msl); (3) a lower earth embankment dam with a height of 153 feet and 3,606 feet in length; (4) an associated lower reservoir with a surface area of 423 acres, and a storage capacity of 15,319 acre feet, with a normal maximum surface elevation of 5,690 msl; (5) a 25-foot-diameter steel-lined and concrete penstock or other conduit with a length of 6,480 feet; (6) a powerhouse containing 3 units with a proposed generating capacity of 900 megawatts; and (7) a 14 mile-long 230 kilovolt transmission line from the powerhouse to an existing substation, near Shiprock, New Mexico.

Applicant Contact: Brent L. Smith, COO, Symbiotics, LLC, P.O. Box 535, Rigby, ID 83442; phone (208) 745-0834.

FERC Contact: Frank Winchell, Ph.D., Office of Energy Projects; phone 202-502-6104.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13615) in the docket number field to access the document. For assistance, contact FERC Online Support.

Kimberly D. Bose,
Secretary.

[FR Doc. 2010-5525 Filed 3-12-10; 8:45 am]

BILLING CODE 6717-01-P